NUCLEAR REGULATORY COMMISSION

Notice for Opportunity to Comment on Model Safety Evaluation on Technical Specification Improvement to Eliminate Requirements to Provide Monthly Operating Reports and Occupational Radiation Exposure Reports Using the Consolidated Line Item Improvement Process

AGENCY: Nuclear Regulatory Commission.

ACTION: Request for Comment.

SUMMARY: Notice is hereby given that the staff of the Nuclear Regulatory Commission (NRC) has prepared a model safety evaluation (SE) relating to the elimination of requirements for licensees to provide monthly operating reports (MORs) and occupational radiation exposure reports (ORERs). The requirements to submit MORs and ORERs are imposed on licensees through technical specifications. The NRC staff has also prepared a model no significant hazards consideration (NSHC) determination relating to this matter. The purpose of these models is to permit the NRC to efficiently process amendments that propose to remove the requirements for these reports. Licensees of nuclear power reactors to which the models apply could request amendments confirming the applicability of the SE and NSHC determination to their reactors and providing the requested plant-specific verifications and commitments. The NRC staff is requesting comments on the model SE and model NSHC determination prior to announcing their availability for referencing in license amendment applications.

DATES: The comment period expires May 28, 2004. Comments received after this date will be considered if it is practical to do so, but the Commission is able to ensure consideration only for comments received on or before this date.

ADDRESSES: Comments may be submitted either electronically or via U.S. mail.

Submit written comments to: Chief, Rules and Directives Branch, Division of Administrative Services, Office of Administration, Mail Stop T-6-D59, U.S. Nuclear Regulatory Commission, Washington, DC 20555-0001.

Hand deliver comments to 11545 Rockville Pike, Rockville, Maryland, between 7:45 a.m. and 4:15 p.m. on Federal workdays.

Copies of comments received may be examined at the NRC's Public Document Room, located at One White Flint North, 11555 Rockville Pike (first floor), Rockville, Maryland.

Comments may be submitted by electronic mail to CLIIP@nrc.gov.

FOR FURTHER INFORMATION CONTACT: William Reckley, Mail Stop: O-7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency and transparency of NRC licensing processes. This is accomplished by processing proposed changes to the Standard Technical Specifications (STS) in a manner that supports subsequent license amendment applications. The CLIIP includes an opportunity for the public to comment on proposed changes to the STS following a preliminary assessment by the NRC staff and finding that the change will likely be offered for adoption by licensees. This notice is soliciting comment on a proposed change to the STS that removes requirements for providing MORs and ORERs. The CLIIP directs the NRC staff to evaluate any comments received for a proposed change to the STS and to either reconsider the change or to proceed with announcing the availability of the change to licensees. Those licensees opting to apply for the subject change to technical specifications are responsible for reviewing the staff's evaluation, referencing the applicable technical justifications, and providing any necessary plant specific information. Each amendment application made in response to the notice of availability would be processed and noticed in accordance with applicable rules and NRC procedures.

This notice for comment involves the elimination of requirements in the administrative controls in technical specifications for licensees to submit selected reports. The removal of the requirements to submit MORs and ORERs was proposed by the Technical Specification Task Force (TSTF) in Revision 1 to STS Change Traveler TSTF-369, accessible electronically from the Agencywide Documents Access and Management System's (ADAMS) Public Electronic Reading Room on the Internet (ADAMS Accession Number ML040050211) at the NRC web site http://www.nrc.gov/reading-rm/adams.html. Persons who do not have access to ADAMS or who encounter problems in accessing the documents located in ADAMS, should contact the NRC Public Document Room Reference staff by telephone at 1-800-397-4209, 301-415-4737, or by e-mail to pdr@nrc.gov.

Applicability

This proposed change to remove requirements for MORs and ORERs is applicable to all nuclear power reactors.

To efficiently process incoming license amendment applications, the staff requests each licensee applying for the changes addressed by TSTF-369 using the CLIIP to address the following plant-specific verifications and regulatory commitments. The CLIIP does not prevent licensees from requesting an alternative approach or proposing the changes without the requested verifications and regulatory commitments. Licensees choosing to request an approach different than that described in this notice should submit applications with appropriate plant-specific justifications for the proposed changes and an analysis of the issue of no significant hazards consideration. Variations from the approach recommended in this notice may require additional review by the NRC staff and may increase the time and resources needed for the review.

Each licensee requesting approval to revise their technical specifications using the CLIIP will make a regulatory commitment to provide to the NRC the information defined in Generic Letter 97-02, “Revised Contents of the Monthly Operating Report,” by the 21st of the month following the end of each calendar quarter. This coincides with the schedule for the submission of performance indicator data associated with the Reactor Oversight Process. The regulatory commitment will be based on use of an industry database (e.g., the industry's Consolidated Data Entry (CDE) program, currently being developed and maintained by the Institute of Nuclear Power Operations).

Public Notices

This notice requests comments from interested members of the public within 30 days of the date of publication in the Federal Register. Following the staff's evaluation of comments received as a result of this notice, the staff may reconsider the proposed change or may proceed with announcing the availability of the change in a subsequent notice (perhaps with some changes to the SE or proposed NSHC determination as a result of public comments). If the staff announces the availability of the change, licensees wishing to adopt the change will submit an application in accordance with applicable rules and other regulatory requirements. The staff will in turn issue for each application a notice of proposed action, which includes a proposed NSHC determination. A notice of issuance of an amendment of operating license will also be issued to announce the removal of the reporting requirements for each plant that applies for and receives the requested change.

Proposed Safety Evaluation

U.S. Nuclear Regulatory Commission, Office of Nuclear Reactor Regulation, Consolidated Line Item Improvement, Technical Specification Task Force (TSTF) Change Traveler TSTF-369, Elimination of Requirements for Monthly Operating Reports and Occupational Radiation Exposure Reports.

1.0 Introduction

By application dated [DATE], [LICENSEE NAME] (the licensee), submitted a request for changes to the [PLANT NAME], Technical Specifications (TSs) (ADAMS Accession No. MLxxx). The requested change would delete TS [5.6.1], “Occupational Radiation Exposure Report,” and TS [5.6.4], “Monthly Operating Reports,” as described in the Notice of Availability published in the Federal Register on [DATE ] (xx FR yyyyy).

2.0 Regulatory Evaluation

Section 182a. of the Atomic Energy Act of 1954, as amended, (the “Act”) requires applicants for nuclear power plant operating licenses to state TS to be included as part of the license. The Commission's regulatory requirements related to the content of TSs are set forth in 10 CFR 50.36, “Technical specifications.” The regulation requires that TSs include items in five specific categories, including (1) safety limits, limiting safety system settings, and limiting control settings; (2) limiting conditions for operation (LCOs); (3) surveillance requirements; (4) design features; and (5) administrative controls. However, the regulation does not specify the particular requirements to be included in a plant's TSs.

The Commission has provided guidance for the content of TSs in its “Final Policy Statement on Technical Specification Improvements for Nuclear Power Reactors' (58 FR 39132, published July 22, 1993), in which the Commission indicated that compliance with the Final Policy Statement satisfies Section 182a. of the Act. The Final Policy Statement identified four criteria to be used in determining whether a particular item should be addressed in the TSs as an LCO. The criteria were subsequently incorporated into 10 CFR 50.36 (60 FR 36593, published July 19, 1995). While the criteria specifically apply to LCOs, the Commission indicated that the intent of these criteria may be used to identify the optimum set of administrative controls in TSs. Addressing administrative controls, 10 CFR 50.36 states that they are “the provisions relating to organization and management, procedures, recordkeeping, review and audit, and reporting necessary to assure operation of the facility in a safe manner.” The specific content of the administrative controls section of the TS is, therefore, related to those programs and reports that the Commission deems essential for the safe operation of the facility, which are not adequately covered by regulations or other regulatory requirements. Accordingly, the staff may determine that specific requirements, such as those associated with this change, may be removed from the administrative controls in the TS if they are not explicitly required by 10 CFR 50.36(c)(5) and are not otherwise necessary to obviate the possibility of an abnormal situation or event giving rise to an immediate threat to the public health and safety.

The impetus for the monthly operating report (MOR) came from the 1973-1974 oil embargo. Regulatory Guide 1.16, Revision 4, “Reporting of Operating Information—Appendix A Technical Specifications,” published for comment in August 1975, identifies operating statistics and shutdown experience information that was desired in the operating report at that time. In the mid-1990s, the NRC staff assessed the information that is submitted in the MOR and determined that while some of the information was no longer used by the staff, the MOR was the only source of some data used in the NRC Performance Indicator (PI) Program of that time period (see NRC Generic Letter (GL) 97-02, “Revised Contents of the Monthly Operating Report”). Beginning in the late 1990s, the NRC developed and implemented a major revision to its assessment, inspection, and enforcement processes through its Reactor Oversight Process (ROP). The ROP uses both plant-level PIs and inspections performed by NRC personnel. In conjunction with the development of the ROP, the NRC developed the Industry Trends Program (ITP). The ITP provides the NRC a means to assess overall industry performance using industry level indicators and to report on industry trends to various stakeholders (e.g., Congress). Information from the ITP is used to assess the NRC's performance related to its goal of having “no statistically significant adverse industry trends in safety performance.” The ITP uses some of the same PIs as the PI Program from the mid-1990s and, therefore, the NRC has a continuing use for the data provided in MORs. The NRC also uses some data from the MORs to support the evaluation of operating experience, licensee event reports, and other assessments performed by the staff and its contractors.

Licensees are required by TSs to submit annual occupational radiation exposure reports (ORERs) to the NRC. The reports, developed in the mid-1970s, supplement the reporting requirements currently defined in 10 CFR 20.2206, “Reports of individual monitoring,” by providing a tabulation of data by work areas and job functions. The NRC included data from the ORERs in its annual publication of NUREG-0713, “Occupational Radiation Exposure at Commercial Nuclear Power Reactors and Other Facilities,” through the year 1997, but no longer includes the data in that or other reports.

3.0 Technical Evaluation

3.1 Monthly Operating Reports

As previously mentioned, the administrative requirements in TSs are reserved for “the provisions relating to organization and management, procedures, recordkeeping, review and audit, and reporting necessary to assure operation of the facility in a safe manner.” The current use of the information from the MORs is not related to reporting on or confirming the safe operation of specific nuclear power plants. Instead, the data is used by the NRC to assess and communicate with stakeholders regarding the overall performance of the nuclear industry. Data related to PIs for specific plants are reported to the NRC as part of the ROP. The staff has determined that the MORs do not meet the criteria defined for requirements to be included in the administrative section of TSs and the reporting requirement may, therefore, be removed.

Although the MORs do not satisfy the criteria for inclusion in TSs, the NRC staff nevertheless has a continuing need to receive the data in order to compile its reports on industry trends and to support other evaluations of operating experience. In addition, information such as plant capacity factors that are reported in the MORs are useful to the staff and are frequently asked for by agency stakeholders.

The NRC staff interacted with licensees, industry organizations, and other stakeholders during the development of the Consolidated Data Entry (CDE) program (currently being developed and maintained by the Institute of Nuclear Power Operation), regarding the use of an industry database like CDE to provide data currently obtained from MORs. These discussions also involved the related Revision 1 to TSTF-369, “Removal of Monthly Operating Report and Occupational Radiation Exposure Report.” As described in Section 4 of this safety evaluation, the licensee is making a regulatory commitment to continue to provide the data identified in GL 97-02, following the removal of the TS requirement to submit MORs, and will, therefore, continue to meet the needs of the NRC staff for the ITP and other evaluations. The use of an industry database such as CDE is more efficient and cost-effective for both the NRC and licensees than would be having the NRC staff obtain the needed information from other means currently available. Should a licensee fail to satisfy the regulatory commitment to voluntarily provide the information, the NRC could obtain the information through its inspection program (similar to the process described in NRC Inspection Procedure 71150, “Discrepant or Unreported Performance Indicator Data”) with the cost passed on to the licensee.

The only significant changes resulting from the adoption of TSTF-369 are that the information will be provided quarterly instead of monthly (although the operating data will still be divided by month) and the form of the reporting will be from a consolidated database such as CDE instead of in correspondence from individual licensees. The change of reporting frequency to quarterly has some advantages for both the staff and licensees, since it will coincide with the collection and submission of the ROP PI data. In terms of the specific method used to transmit the data to the NRC, the licensee has committed (see Section 4.0) to provide data identified in GL 97-02 on a quarterly basis. The staff believes that the most efficient process for licensees and the NRC will be for all licensees to use a system such as CDE. Such systems have advantages in terms of improved data entry, data checking, and data verification and validation. The NRC will recognize efficiency gains by having the data from all plants reported using the same computer software and format. Although the data may be transmitted to the NRC from an industry organization maintaining a database such as CDE, the licensee provides the data for the system and remains responsible for the accuracy of the data submitted to the NRC for its plant(s). The public will continue to have access to the data through official agency records accessible on the Agencywide Documents Access and Management System (ADAMS).

3.2 Occupational Radiation Exposure Reports

The information that the NRC staff needs regarding occupational doses is provided by licensees in the reports required under 10 CFR Part 20. The data from the Part 20 reports are sufficient to support the NRC trending programs, radiation related studies, and preparation of reports such as NUREG-0713. Accordingly, the NRC's limited use of the ORER submitted pursuant to the existing TS requirements no longer warrants the regulatory burden imposed on licensees. Therefore, the staff finds it acceptable that TS [5.6.1] is being deleted and the ORER will no longer be submitted by the licensee.

[Note: For stations with both boiling and pressurized water reactors (i.e., Salem/Hope Creek and Millstone) and for stations with both operating and shutdown reactors (e.g., Dresden, Indian Point, Millstone, San Onofre, Three Mile Island), the NRC staff uses information provided in the ORERs to apportion the doses reported under 10 CFR Part 20 to the different categories of reactors at a single site. The licensees for facilities with different reactor types at a single site and those having both operating and shutdown reactors at a single site will include in their applications a regulatory commitment to provide information to the NRC annually (e.g., with their annual submittal in accordance with 10 CFR 20.2206) to support the apportionment of the station doses to each type of reactor and to differentiate between operating and shutdown units. The data will provide the summary distribution of annual whole body doses as presented in Appendix B of NUREG-0713 for each reactor type and for operating and shutdown units.]

[The licensee's application included editorial and formatting changes such as the renumbering of TS sections to reflect the deletion of the sections related to MORs and ORERs. The NRC staff has reviewed these changes and found that they do not revise substantive technical or administrative requirements, and are acceptable.]

4.0 Verifications and Commitments

In order to efficiently process incoming license amendment applications, the staff requested each licensee requesting the changes addressed by TSTF-369 using the CLIIP to address the following plant-specific regulatory commitment.

4.1 Each licensee should make a regulatory commitment to provide to the NRC using an industry database the operating data (for each calender month) that is described in Generic Letter 97-02 “Revised Contents of the Monthly Operating Report,” by the 21st of the month following the end of each calendar quarter. This coincides with the schedule for the submission of performance indicator data associated with the Reactor Oversight Process. The regulatory commitment will be based on use of an industry database (e.g., the industry's Consolidated Data Entry (CDE) program, currently being developed and maintained by the Institute of Nuclear Power Operations).

The licensee has made a regulatory commitment to provide the requested data via an industry database (i.e., the CDE) by the 21st of the month (coinciding with the schedule for the submission of performance indicator data associated with the Reactor Oversight Process) following each calendar quarter.

[4.2 Each licensee [(operating different reactor types at a single site) or (possessing both operating and shutdown reactors at a single site)] will include in its application a regulatory commitment to provide information to the NRC annually (e.g., with its annual submittal in accordance with 10 CFR 20.2206) to support the apportionment of station doses [(to each type of reactor) or (to differentiate between operating and shutdown units)]. The data will provide the summary distribution of annual whole body doses as presented in Appendix B of NUREG-0713 for each reactor type and for operating and shutdown units.

The licensee has made a regulatory commitment to provide information to the NRC annually to support the apportionment of the station doses to each type of reactor and to differentiate between operating and shutdown units.] The NRC staff finds that reasonable controls for the implementation and for subsequent evaluation of proposed changes pertaining to the above regulatory commitment(s) can be provided by the licensee's administrative processes, including its commitment management program. The NRC staff has agreed that NEI 99-04, Revision 0, “Guidelines for Managing NRC Commitment Changes,” provides reasonable guidance for the control of regulatory commitments made to the NRC staff (see Regulatory Issue Summary 2000-17, “Managing Regulatory Commitments Made by Power Reactor Licensees to the NRC Staff,” dated September 21, 2000). The staff notes that this amendment establishes a voluntary reporting system for the operating data that is similar to the system established for the ROP PI program.

5.0 State Consultation

In accordance with the Commission's regulations, the [STATE] State official was notified of the proposed issuance of the amendments. The State official had [(1) no comments or (2) the following comments—with subsequent disposition by the staff].

6.0 Environmental Consideration

The amendment relates to changes in recordkeeping, reporting, or administrative procedures or requirements. The Commission has previously issued a proposed finding that the amendment involves no significant hazards consideration, and there has been no public comment on such finding (FR citation and date). Accordingly, the amendment meets the eligibility criteria for categorical exclusion set forth in 10 CFR 51.22(c)(10). Pursuant to 10 CFR 51.22(b), no environmental impact statement or environmental assessment need be prepared in connection with the issuance of the amendment.

7.0 Conclusion

The Commission has concluded, based on the considerations discussed above, that (1) there is reasonable assurance that the health and safety of the public will not be endangered by operation in the proposed manner, (2) such activities will be conducted in compliance with the Commission's regulations, and (3) the issuance of the amendments will not be inimical to the common defense and security or to the health and safety of the public.

Proposed No Significant Hazards Consideration Determination

Description of amendment request: The requested change would delete Technical Specification (TS) [5.6.1], “Occupational Radiation Exposure Report,” and [5.6.4], “Monthly Operating Reports,” as described in the Notice of Availability published in the Federal Register on [DATE] (xx FR yyyyy).

Basis for proposed no significant hazards consideration determination: As required by 10 CFR 50.91(a), an analysis of the issue of no significant hazards consideration is presented below:

1. Does the proposed change involve a significant increase in the probability or consequences of an accident previously evaluated?

Response: No.

The proposed change eliminates the Technical Specifications reporting requirements to provide a monthly operating report of shutdown experience and operating statistics if the equivalent data is submitted using an industry electronic database. It also eliminates the Technical Specification reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, requested change does not involve a significant hazards consideration.

Dated at Rockville, Maryland, this 21st day of April 2004.
For the Nuclear Regulatory Commission.
Robert A. Gramm,
Chief, Section 1, Project Directorate IV, Division of Licensing Project Management, Office of Nuclear Reactor Regulation.

[FR Doc. 04-9691 Filed 4-28-04; 8:45 am]

BILLING CODE 7590-01-P